DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Nitric Oxide-Based Therapeutics for Lung Cancer

Description of Invention: JS-36-25, a diazeniumdiolate prodrug, is available for licensing and development of treatments for lung cancer. The inventors have demonstrated a potent tumoristatic activity of JS-36-25 in both lung cancer cells in vitro and as xenografts in mice. JS-36-25 treatment led to 85% reduction of tumor growth in vivo. The tumoristatic potency of the compound correlated well with the level of endogenous reactive oxygen species (ROS) in the cancer cells. Thus, in addition to potent tumoristatic activity when administered alone, this compound is predicted to have a strong synergy with therapeutics that act through generation of ROS, such as bortezomib, doxorubicin, as well as high-energy radiation.

Applications: Development of lung cancer treatments.

Development Status: Pre-clinical.

Market: There are over 160,000 new cases of lung cancer every year in the United States alone.

Inventors: Anna E. Maciag et al. (NCI).

Patent Status: U.S. Provisional Application No. 61/261,175 filed 13 November 2009 (HHS Reference No. E-025-2010/0-US-01).

Licensing Status: Available for licensing.

Licensing Contact: Steve Standley, Ph.D.; 301-435-4074; sstand@od.nih.gov.

T-Cell-Specific Gfi-1 Knockout Mouse

Description of Invention: This is a mouse model available to study T-cell differentiation. Growth factor independent 1 (GFi-1) is a transcriptional repressor that is transiently induced during T-cell activation. This knockout mouse line is a GFi-1[flox/flox] introduced into a mouse Cre controlled by a CD4 promoter, which allows selective removal of GFi-1 exclusively in T-cells. It has thus-far been used to demonstrate that GFi-1 plays a critical role in enhancing Th2 cell expansion and repressing induction of Th17 and CD103+ iTreg cells.

Applications: Tool for studying T-cell proliferation and differentiation.

Inventors: Jinfang Zhu and William E. Paul (NIAID).

Related Publication: J Zhu, TS Davidson, G Wei, D Jankovic, K Cui, DE Schones, L Guo, K Zhao, EM Shevach, WE Paul. Down-regulation of Gfi-1 expression by TGF-beta is important for differentiation of Th17 and CD103+ inducible regulatory T cells. J Exp Med. 2009 Feb 16;206(2):329-341. [PubMed: 19188499].

Patent Status: HHS Reference No. E-242-2009/0—Research Tool. Patent protection is not being pursued for this technology.

Licensing Status: This technology is available as a research tool under a Biological Materials License.

Licensing Contact: Steve Standley, Ph.D.; 301-435-4074; sstand@od.noh.gov.

Dated: January 21, 2010.
Richard U. Rodriguez,
Director, Division of Technology Development and Transfer, Office of Technology Transfer, National Institutes of Health.

[FR Doc. 2010-1668 Filed 1-27-10; 8:45 am]

BILLING CODE 4140-01-P